SMALL BUSINESS ADMINISTRATION

[Declaration of Disaster #3374]

State of Indiana; (And Contiguous Counties in the State of Michigan)

Elkhart and St. Joseph Counties and the contiguous Counties of Kosciusko, LaGrange, La Porte, Marshall, Noble and Starke in the State of Indiana; and Berrien, Cass and St. Joseph Counties in the State of Michigan constitute a disaster area due to damages caused by severe storms and tornadoes that occurred October 24, 2001. Applications for loans for physical damage may be filed until the close of business on January 14, 2002 and for economic injury until the close of business on August 13, 2002 at the address listed below or other locally announced locations: U.S. Small Business Administration, Disaster Area 2 Office, One Baltimore Place, Suite 300, Atlanta, GA 30308.

The interest rates are:

For Physical Damage: | Percent
Homeowners with credit available elsewhere | 6.500
Homeowners without credit available elsewhere | 3.250
Businesses with credit available elsewhere | 8.000
Businesses and non-profit organizations without credit available elsewhere | 4.000
Others (including non-profit organizations) with credit available elsewhere | 6.375
For Economic Injury:
Businesses and small agricultural cooperatives without credit available elsewhere | 4.000

The numbers assigned to this disaster for physical damage are 337411 for Indiana and 337511 for Michigan. For economic injury, the numbers are 9N2900 for Indiana and 9N3000 for Michigan.

(Catalog of Federal Domestic Assistance Program Nos. 59002 and 59008)

Date: November 13, 2001.
John Whitmore,
Acting Administrator.

[FR Doc. 01-28916 Filed 11-19-01; 8:45 am]

BILLING CODE 8025-01-P